COMMITTEE FOR PURCHASE FROM PEOPLE WHO ARE BLIND OR SEVERELY DISABLED

Procurement List Additions

AGENCY: Committee For Purchase From People Who Are Blind Or Severely Disabled.

ACTION: Additions to procurement list.

SUMMARY: This action adds to the Procurement List products and services to be furnished by nonprofit agencies employing persons who are blind or have other severe disabilities.

EFFECTIVE DATE: December 10, 2005.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, Telephone: (703) 603-7740, Fax: (703) 603-0655, or e-mail SKennerly@jwod.gov.

SUPPLEMENTARY INFORMATION: On July 8, and September 16, 2005, the Committee for Purchase From People Who Are Blind or Severely Disabled published notice (70 FR 39484, and 54709) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

Paper, Xerographic (Chlorine Free) (GSA Global Supply Only)

NSN: 7530-01-503-8445—8½″ x 11″, 3-hole punched

NSN: 7530-01-503-8449—8½″ x 14″

NSN: 7530-01-503-8453—11″ x 17″

NSN: 7530-01-503-8441—8½″ x 11″ (For Stockton California Depot Only)

NPA: Louisiana Association for the Blind, Shreveport, Louisiana

Contracting Activity: Office Supplies & Paper Products Acquisition Center, New York, NY

Services

Service Type/Location: Custodial Services, Somersworth U.S. Army Reserve Center, Route 108, Somersworth, New Hampshire

NPA: Northern New England Employment Services, Portland, Maine

Contracting Activity: Devens Reserve Forces Training Area, Devens, Massachusetts

Service Type/Location: Custodial Services, U.S. Army Reserve Center and Maintenance Shop, 7400 S. Pulaski Road, Chicago, Illinois

NPA: Jewish Vocational Service and Employment Center, Chicago, Illinois

Contracting Activity: 88th Regional Support Command, Fort Snelling, Minneapolis

This action does not affect current contracts awarded prior to the effective date of this addition or options that may be exercised under those contracts.

Sheryl D. Kennerly,
Director, Information Management.

[FR Doc. E5-6177 Filed 11-9-05; 8:45 am]

BILLING CODE 6353-01-P